DEPARTMENT OF COMMERCE

Bureau of the Census

[Docket Number 040510146-4146-01]

Annual Survey of Manufacturers

AGENCY: Bureau of the Census, Commerce.

ACTION: Notice of consideration and request for comments.

SUMMARY: The Bureau of the Census (Census Bureau) plans to reduce the number of individual 6-digit North American Industry Classification System (NAICS) industries for which the Annual Survey of Manufacturers (ASM) estimates are published. We will continue to publish estimates for all manufacturing industries at higher levels of industry aggregation. By doing this, we hope to improve the timeliness of the estimates we produce as well as enhance the reliability and relevance of variables we collect.

We are replacing the current 473 6-digit NAICS industries with a new list of 318 ASM industries, which will include selected 6-digit NAICS industries and other industries defined as groups of the 6-digit NAICS industries. Six-digit industries are the most detailed defined by the NAICS. The lists of present and proposed industries along with the concordance are available on our Web site at http://www.census.gov/mcd/asmchange/.

DATES: Written comments on this notice must be submitted on or before June 24, 2004.

ADDRESSES: Direct all written comments to the Director, U.S. Census Bureau, Room 2049, Federal Building 3, Washington, DC 20233.

FOR FURTHER INFORMATION CONTACT: Judy M. Dodds, Assistant Division Chief, Census and Related Programs, Manufacturing and Construction Division, on (301) 763-4587 or by e-mail at judy.m.dodds@census.gov.

SUPPLEMENTARY INFORMATION: The Census Bureau is authorized to conduct surveys necessary to furnish current data on subjects covered by the major censuses authorized by title 13, United States Code (U.S.C.), sections 182, 224, and 225. Reporting by ASM establishments will continue to be mandatory and provide continuing and timely national statistical data on the manufacturing sector. Data collected in this survey will be within the general scope, type, and character of those inquiries covered in the Economic Census.

The ASM collects industry statistics, such as total value of shipments, employment, payroll, workers' hours, capital expenditures, cost of materials consumed, supplemental labor costs, and so forth. This survey, conducted on a sample basis, covers all manufacturing industries, including data on plants under construction, but not yet in operation.

Beginning with the survey year 2003, the Census Bureau plans to reduce the number of detailed industries for which the ASM estimates are published. Reducing the level of detail for which characteristics are estimated will allow the Census Bureau to focus resources on improving other aspects of the ASM program. We believe that this reduction in ASM detail will not have a substantial adverse impact upon the public. While some industry detail will be lost for ASM, similar data for some of the variables are available from other sources, such as County Business Patterns or programs of the Bureau of Labor Statistics. The ASM is conducted as a mail-out/mail-back survey. No changes in the collection of information are planned as a result of this proposal.

Published estimates from the ASM are used by a variety of private business and trade associations. They provide various governmental agencies with a tool to evaluate economic policy and to measure progress toward established goals. For example, Bureau of Economic Analysis staff use data to develop nonresidential fixed investment components of gross private domestic investment in the gross domestic product. The Federal Reserve Board uses the data to estimate indexes of production, which are presented to the Board of Governors and have an impact on monetary policy.

Paperwork Reduction Act

Notwithstanding any other provision of law, no person is required to respond to, nor shall a person be subject to a penalty for failure to comply with, a collection of information subject to requirements of the Paperwork Reduction Act (PRA), unless that collection of information displays a current valid Office of Management and Budget (OMB) control number. In accordance with the PRA, 44 U.S.C. chapter 35, the OMB approved the current ASM under OMB Control Number 0607-0449. The total burden hours associated with OMB Control Number 0607-0449 are 187,000 hours. We will provide copies of each form upon written request to the Director, U.S. Census Bureau, Washington, DC 20233-0001.

Dated: May 19, 2004.
Charles Louis Kincannon,
Director, Bureau of the Census.

[FR Doc. 04-11763 Filed 5-24-04; 8:45 am]

BILLING CODE 3510-07-P